DEPARTMENT OF HEALTH AND HUMAN SERVICES

Centers for Disease Control and Prevention

Advisory Council for the Elimination of Tuberculosis Meeting (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public, limited only by the space available. The meeting room accommodates approximately 80 people and has 100 ports for audio phone lines. Time will be available for public comment. The public is welcome to submit written comments in advance of the meeting. Comments should be submitted in writing by email to the contact person listed below. The deadline for receipt is Monday, December 10, 2018. Persons who desire to make an oral statement, may request it at the time of the public comment period on December 12, 2018 at 11:40 a.m., EST.

DATES: The meeting will be held on December 11, 2018, 8:30 a.m. to 4:30 p.m., EST and December 12, 2018, 8:30 a.m. to 12:00 p.m., EST.

ADDRESSES: 8 Corporate Blvd., Building 8, Conference Rooms 1-A/B/C, Atlanta, Georgia, 30329 and Web conference: 1-877-927-1433 and participant passcode: 12016435 and https://adobeconnect.cdc.gov/r5p8l2tytpq/.

FOR FURTHER INFORMATION CONTACT: Margie Scott-Cseh, Committee Management Specialist, CDC, 1600 Clifton Road, NE, Mailstop: E-07, Atlanta, Georgia, 30333, telephone (404) 639-8317; zkr7@cdc.gov.

SUPPLEMENTARY INFORMATION:

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters to be Considered: The agenda will include discussions on (1) Division of Tuberculosis Elimination (DTBE) funded Demonstration Project on Latent Tuberculosis Infection (LTBI) Testing and Treatment; (2) DTBE Communications Messaging and Campaigns; (3) Update on LTBI Treatment Guidelines; (4) Update on Drug Resistant Tuberculosis Guidelines; and (5) Update from ACET workgroups. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-23974 Filed 11-1-18; 8:45 am]

BILLING CODE 4163-18-P